DEPARTMENT OF TRANSPORTATION

Federal Motor Carrier Safety Administration

[Docket No. FMCSA-2019-0204]

Agency Information Collection Activities; Renewal of a Currently-Approved Information Collection Request: Unified Registration System, FMCSA Registration/Updates

AGENCY: Federal Motor Carrier Safety Administration (FMCSA), DOT.

ACTION: Notice and request for comments.

SUMMARY: In accordance with the Paperwork Reduction Act of 1995, FMCSA announces its plan to submit the information collection request (ICR) described below to the Office of Management and Budget (OMB) for its review and approval and invites public comment. FMCSA requests approval to renew the ICR titled “Unified Registration System, FMCSA Registration/Updates,” OMB Control No. 2126-0051. This ICR applies to new registrants seeking initial operating authority from FMCSA. New registrants seeking operating authority must use online Form MCSA-1, accessible via the Unified Registration System (URS). FMCSA also seeks to declare an adjusted decrease in the estimate of response time and hence an adjusted decrease in the total burden hours calculated since the publication of the 60-day Federal Register (84 FR 48000) on September 11, 2019.

DATES: We must receive your comments on or before January 27, 2020.

ADDRESSES: All comments should reference Federal Docket Management System (FDMS) Docket Number FMCSA-2019-0204. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Mr. Jeff Secrist, Office of Registration and Safety Information, Chief, Registration, Licensing and Insurance Division, Department of Transportation, Federal Motor Carrier Safety Administration, West Building 6th Floor, 1200 New Jersey Avenue SE, Washington, DC 20590. Telephone: 202-385-2367; email: jeff.secrist@dot.gov. Office hours are from 9 a.m. to 5 p.m., Monday through Friday, except Federal holidays.

SUPPLEMENTARY INFORMATION:

Title: Unified Registration System, FMCSA Registration Updates.

OMB Control Number: 2126-0051.

Type of Request: Renewal of a currently approved collection.

Respondents: Carrier compliance officer or equivalent from transportation entities subject to FMCSA's licensing, registration and certification regulations.

Estimated Number of Respondents: 155,625 (51,875 per year, over 3 years).

Estimated Time per Response: 1.34 hours.

Expiration Date: January 31, 2020.

Frequency of Response: One-time information collection.

Estimated Total Annual Burden: 208,537.5 hours total (69,512.5 hours per year, over 3 years).

Background: FMCSA registers for-hire motor carriers of regulated commodities and of passengers, under 49 U.S.C. 13902(a); surface freight forwarders, under 49 U.S.C. 13903; property brokers, under 49 U.S.C. 13904; and certain Mexico-domiciled motor carriers, under 49 U.S.C. 13902(c). These motor carriers may conduct transportation services in the United States only if they are registered with FMCSA. Each registration is effective from the date specified and remains in effect for such period as the Secretary of Transportation (Secretary) determines by regulations.

The Final Rule titled “Unified Registration System,” (78 FR 52608) dated August 23, 2013, implemented statutory provisions for an online registration system for entities that are subject to FMCSA's licensing, registration, and certification regulations. URS streamlines the registration process and serves as a clearinghouse and repository of information on motor carriers, brokers, freight forwarders, intermodal equipment providers (IEPs), hazardous materials safety permit (HMSP) applicants, and cargo tank facilities required to register with FMCSA. When developing URS, FMCSA planned that the OP-1 series of forms (except for OP-1(MX)) would ultimately be folded into one overarching form (MCSA-1), which would be used by all motor carriers seeking authority.

FMCSA began a phased rollout of URS in 2015. The first phase, which became effective on December 12, 2015, impacts only first-time applicants seeking an FMCSA-issued registration. FMCSA had planned subsequent rollout phases for existing registrants; however, there have been substantial delays, and subsequent phases have not been rolled out to date.

On January 17, 2017, FMCSA issued a Final Rule titled “Unified Registration System; Suspension of Effectiveness,” which indefinitely suspended URS effectiveness dates for existing registrants only (82 FR 5292). Pursuant to this Final Rule, FMCSA is still accepting forms OP-1, OP-1(P), OP-1(FF), and OP-1(NNA) for existing registrants wishing to apply for additional authorities. Separately, FMCSA requires Form OP-1(MX) for Mexico-domiciled carriers that wish to operate beyond the U.S. municipalities on the U.S.-Mexico border and their commercial zones.

As described above, only first-time applicants seeking an FMCSA-issued registration must apply for authority via URS, using Form MCSA-1. Under URS, all forms described in the current ICR, except OP-1(MX), are folded into Form MCSA-1. Information collection activities associated with the OP-1 series of forms are covered under a different ICR, titled “Licensing Applications for Motor Carrier Operating Authority,” OMB Control No. 2126-0016.

Form MCSA-1 requests information to identify the applicant, the nature and scope of its proposed operations, safety-related details, and information regarding the drivers and vehicles it plans to use in U.S. operations. FMCSA and the States use registration information collected via Form MCSA-1 to track motor carriers, freight forwarders, brokers, and other entities they regulate. Registering motor carriers is essential to being able to identify carriers so that their safety performance can be tracked and evaluated. The data make it possible to link individual trucks to the responsible motor carrier, thus implementing the mandate under 49 U.S.C. 31136(a)(1); that is, ensuring that CMVs are maintained and operated safely. In general, registration information collected via Form MCSA-1 informs prioritization of the Agency's activities and aids in assessing and statistically analyzing the safety outcomes of those activities.

The current information collection supports the DOT Strategic Goal of Safety. It streamlines registration processes and ensures that FMCSA can more efficiently track motor carriers, freight forwarders, brokers, and other entities regulated by the Agency.

On September 11, 2019, FMCSA published a Federal Register (FR) notice and received one comment from Mr. Gary Porter. Mr. Porter states that he was charged with an accident in Shasta County California on 08/14/2017 for a crash he had nothing to do with and would like to have it removed from his record. The Agency attempted to contact Mr. Porter on November 25, 2019 but the contact number in our registration system was disconnected.

Changes From Previous Estimates

The adjustment in response time and burden hours since the publication of the 60-day FR (84 FR 48000) on September 11, 2019, was due to FMCSA being meticulous to recalculate estimates using more current data, that is, November 2019 data. The number of respondents in the 60-day FR did not change after the 60-day FR was published, however there is a decrease from 2 hours and 10 minutes per response to 1 hour and 20.4 minutes per response. This results in a calculated decrease from 112,396 burden hours to 69,512.5 burden hours, and a decrease from $4,758,447.58 in labor cost to $2,942,464.13 in labor costs. No comments were received in response to the 60-day FR concerning burden response, burden hours, or costs. Only one comment was received in response to the 60-day FR and it was not related to the ICR.

The previously approved version of this ICR included the following annual burden estimates: 635,418 respondents; 207,273 burden hours; and $6,066,345 in labor costs. Overall Federal Government costs associated with the previous iteration of this ICR were estimated to be $52,000,000, including staff, IT, and overhead costs.

The current ICR includes the following annual estimates: 51,875 respondents; 69,512.5 burden hours; $2,942,464.13 in labor costs. Overall Federal Government costs associated with the current iteration of this ICR are $5,717,460.24, including labor costs and IT support.

As can be seen, there have been significant decreases in the number of respondents, burden hour estimates, labor costs to the industry, and costs to the Government. Reasons for these changes are described below.

First, the original iteration of this ICR included the Government's costs associated with the development, roll-out, and implementation of URS. Those costs are not reflected in this ICR. Instead, estimated costs for ongoing IT maintenance and support of the existing system are included.

Next, FMCSA has experienced delays in rolling out Phase II of URS (which applies to existing registrants) and has indefinitely suspended the effective date of URS requirements for such entities. Phase I of URS, which became effective on December 12, 2015, impacts only first-time (new) applicants seeking an FMCSA-issued registration. In the original iteration of this ICR, it was expected that Phase II of URS would move forward according to schedule, which would require all entities subject to FMCSA licensing and registration requirements (both new and existing registrants, an estimated 635,418 per year) to apply for additional authorities and submit biennial update information via URS. However, due to delays in rolling out Phase II of URS, existing registrants must still use the OP-1 series of forms (covered by OMB Control No. 2126-0016, “Licensing Applications for Motor Carrier Operating Authority”) to apply for additional authorities and the MCS-150 (covered by OMB Control No. 2126-0013, “Motor Carrier Identification Report”) to submit their biennial updates. Thus, only new registrants (an estimated 51,875 per year) are required to submit Form MCSA-1. FMCSA is assuming that this will be the case for the 3-year period covered by this ICR. This has resulted in a decrease in the estimated number of annual MCSA-1 responses of 583,543 (51,875 estimated annual responses in the current iteration of this ICR—635,418 estimated annual responses in the previous iteration of this ICR =−583,543). The decrease in estimated burden hours is a direct result of the decreased estimate of annual responses.

Finally, the changes in labor cost to the industry reflect a) the decreased estimate of annual respondents, and b) a change in the methodology used to estimate hourly wages for carrier compliance officers, which resulted in an increase in hourly wage of $13.06 per hour.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on December 19, 2019.
Kelly Regal,
Associate Administrator for Office of Research and Information Technology.

[FR Doc. 2019-27899 Filed 12-26-19; 8:45 am]

BILLING CODE 4910-EX-P